DEPARTMENT OF COMMERCE

National Oceanic and Atmospheric Administration

50 CFR Parts 600, 635, and 648

[Docket No. 010612153-1153-01; I.D. 041901A]

RIN 0648-AP21

Fisheries Off West Coast States and in the Western Pacific; Atlantic Highly Migratory Species; Fisheries of the Northeastern United States

AGENCY: National Marine Fisheries Service (NMFS), National Oceanic and Atmospheric Administration (NOAA), Commerce.

ACTION: Proposed rule; request for comments.

SUMMARY: NMFS proposes a rule that would implement the provisions of the Shark Finning Prohibition Act (Act) that prohibit any person under U.S. jurisdiction from engaging in shark finning in waters seaward of the inner boundary of the U.S. exclusive economic zone (EEZ), possessing shark fins harvested in waters seaward of the inner boundary of the U.S. EEZ on board a fishing vessel without corresponding shark carcasses, or landing shark fins harvested in waters seaward of the inner boundary of the U.S. EEZ without corresponding carcasses. The Act requires the Secretary of Commerce to issue regulations to implement it and the intent of this action is to propose such regulations.

DATES: Comments must be received at the appropriate address or fax number (see ADDRESSES) no later than 5 p.m. Pacific daylight time on July 30, 2001. Comments may also be submitted at a public hearing to be held on the proposed rule on July 11, 2001, NOAA Auditorium, 1301 East-West Highway, Silver Spring, MD, 5 p.m. EDT.

ADDRESSES: Written comments should be sent to Dr. Rebecca Lent, Regional Administrator, Southwest Region, NMFS, 501 W. Ocean Boulevard, Suite 4200, Long Beach, CA 90802. Comments may also be sent via facsimile at 562-980-4047. Comments will not be accepted if submitted by email or Internet. For copies of the draft environmental Assessment (EA) or regulatory impact review/initial regulatory flexibility analysis (RIR/IRFA), contact Svein Fougner at 562-980-4040.

FOR FURTHER INFORMATION CONTACT: Svein Fougner, Assistant Regional Administrator for Sustainable Fisheries, Southwest Region, NMFS, at 562-980-4040; or Charles Karnella, Administrator, Pacific Island Area Office, NMFS, at 808-973-2935; or Karyl Brewster-Geisz, NMFS headquarters, at 301-713-2347.

SUPPLEMENTARY INFORMATION: Due to concerns about the status of shark populations and the effects of heavy fishing on such populations, the Congress passed, and the President signed, on December 21, 2000, the Shark Finning Prohibition Act. This Act amends the Magnuson-Stevens Fishery Management and Conservation Act (Magnuson-Stevens Act). The Act prohibits any person subject to U.S. jurisdiction from: (1) Engaging in shark finning (finning is the practice of removing the fin or fins from a shark and discarding the remainder of the shark) at sea; (2) possessing shark fins aboard a fishing vessel without the corresponding carcass; and (3) landing shark fins without a corresponding carcass.

By becoming a signatory nation to the United Nations Food and Agriculture Organization’s International Plan of Action on Sharks, the United States has agreed that shark conservation is a concern, both domestically and internationally. The United States has also agreed that all nations and international fishery organizations should take action to ensure that shark populations are monitored, and fishery conservation measures are implemented, to protect sharks from over-exploitation. The strong international market for shark fins has increased the potential for fishing shark stocks at unsustainable levels. Uncontrolled shark finning may lead to unsustainable shark harvests, as well as the waste of usable (but often relatively lower value) shark meat. In addition, the species of shark often cannot be determined from the fins alone. Thus, when finning is practiced, the effects of fisheries on specific shark species is difficult to discern because appropriate mortality data are not available for stock assessments. The intent of the Act is to eliminate the wasteful and unsportsmanlike practice of shark finning. The intent of this proposed rule is to achieve the intent of the Act.

The practice of shark finning has been prohibited in the Federal waters of the Atlantic Ocean, Gulf of Mexico, and Caribbean Sea since 1993 for 39 species of sharks contained in the management unit of the Fishery Management Plan (FMP) for Sharks of the Atlantic Ocean. In 1999, the FMP for Sharks of the Atlantic Ocean was replaced, and the prohibition on shark finning expanded to an additional 33 species of sharks, by the FMP for Atlantic Tunas, Swordfish, and Sharks (HMS FMP). The only species of shark for which finning was not expressly prohibited by the HMS FMP was spiny dogfish; however, the Spiny Dogfish FMP prohibited the finning of spiny dogfish in Federal waters in January 2000. This proposed rule would not affect any of the regulations implementing the HMS and Spiny Dogfish FMPs, including those prohibiting finning or imposing reporting requirements.

To implement the Act, the proposed rule would prohibit: (1) Any person on a U.S. fishing vessel from engaging in shark finning in waters seaward of the inner boundary of the U.S. EEZ; however, a U.S. fisher would not be prohibited from removing and retaining fins from a shark on a vessel, providing the corresponding carcass is retained on board the vessel; (2) any person on a U.S. fishing vessel from possessing shark fins harvested in waters seaward of the inner boundary of the U.S. EEZ on board the vessel without the corresponding shark carcass; (3) any person on a U.S. fishing vessel from landing shark fins harvested in waters seaward of the inner boundary of the U.S. EEZ without the corresponding carcass; and (4) any person on a foreign fishing vessel from engaging in finning in the U.S. EEZ and from landing shark fins in or inside the U.S. EEZ without the corresponding carcass. In addition, the rule would require that all shark fins and carcasses be landed and weighed at the same time, once landing of shark fins and/or shark carcasses has begun. This proposed rule would not affect any reporting requirements currently in place for fisheries that take sharks.

In accordance with the requirements of the Act, it would be a rebuttable presumption that any shark fin or fins found on board a U.S. fishing vessel, or landed from any fishing vessel, were taken, held, or landed in violation of these regulations if the total weight of shark fins landed or found on board exceeds 5 percent of the total dressed weight of shark carcasses landed or found on board the vessel. It would be the responsibility of the person involved to rebut the presumption by providing evidence that there is good reason for the weight of the fins to exceed the 5-percent threshold. NMFS has used wet weight to apply the 5-percent limit for shark fins landed in the Atlantic, Gulf, and Caribbean, where the fins are generally wet when landed. In the western Pacific, foreign vessels generally have landed dry fins, and it is believed that about half the weight of the fin is lost in the drying process. Domestic vessels, on the other hand, generally land fins that are relatively wet as the fishing trips are normally 20 days or less and complete drying can not be achieved in that time. Inasmuch as there is not expected to be any landing of fins by foreign vessels that have taken long trips and land only dry fins, and domestic landings (if any) will likely only be of fins with relatively fresh shark carcasses, it appears logical to use the wet weight (or equivalent) as the standard for application of the 5-percent limit. NMFS specifically seeks comments regarding how “wet” should be defined for purposes of this regulation.

The prohibition of landing shark fins without carcasses would extend to any vessel (including a cargo or shipping vessel) that obtained those fins from another vessel at sea. Any such transfer of shark fins effectively would make the receiving vessel a “fishing vessel”, as the receiving vessel is acting “in support of fishing.” Thus, the receiving vessel would be prohibited from landing shark fins without corresponding carcasses under the proposed rule.

Applicability

This proposed rule would not apply to sharks harvested from state waters. The Act does not contain an express preemption of state authority over state waters. However, the Act’s prohibition on removing any of the fins of a shark (including the tail) and discarding the carcass of the shark uses the terms “discard the carcass of the shark at sea” suggesting that this prohibition applies to state waters as well as waters beyond the inner boundary of the U.S. EEZ. NMFS specifically requests public comment on whether the Act is applicable to sharks harvested from state waters and whether NMFS should issue shark finning regulations applicable to state waters.

It is noted that some states have more restrictive provisions dealing with shark fishing and finning than the prohibitions and requirements that would be imposed by this rule with respect to sharks and their fins harvested from waters seaward of the inner boundary of the U.S. EEZ. This proposed rule would not have any affect on state regulations applicable to sharks and their fins harvested from state waters or to state regulations more restrictive with respect to the landing of sharks and their fins harvested from waters seaward of the inner boundary of the U.S. EEZ.

Effects of Proposed Action

The proposed rule would directly affect: (1) Owners, operators, and crew of U.S. fishing vessels in waters seaward of the inner boundary of the U.S. EEZ that engage in finning, and the landing and sale of those fins; (2) owners and employees of U.S. firms that buy and sell shark fins harvested in waters seaward of the inner boundary of the U.S. EEZ (which could include U.S. fishing vessels and foreign vessels that obtain fins without carcasses from foreign vessels at sea); and (3) owners, operators, and crew of foreign fishing vessels that would otherwise land shark fins without carcasses in or inside the U.S. EEZ. Shark finning has been prohibited in the Federal waters of the Atlantic Ocean, Gulf of Mexico, and Caribbean Sea since 1993, and finning of spiny dogfish in this region was prohibited in 2000. Further, finning is effectively prohibited under state regulations on the West Coast and in the North Pacific, as well as in a number of Atlantic states and Hawaii. In Hawaii, while it is reported that about 60,000 sharks were finned by the Hawaii-based longline fleet in 1999, finning has since been prohibited by state law, and thus this rule will not have large impacts in Hawaii. Therefore, there will be minimal impacts in these areas.

Most, if not all, the impacts would likely affect businesses in the Western Pacific. It is estimated that shark finning accounts for between $1.8 million and $2.5 million of economic activity in the western Pacific (not including the values formerly attributable to finning by domestic vessels in Hawaii until 2000, when finning was prohibited).

The proposed action is expected to have moderate impacts on fishers and businesses in Guam and American Samoa, where shark fin landings have been made and substantial sales and trade in shark fins have been conducted for many years. In Guam and American Samoa, domestic landings of shark fins have been very low; however, foreign longline vessels have landed shark fins there in the past. Under the proposed rule, sales of those fins would be prohibited unless the corresponding carcasses were also landed. This prohibition would also affect the earnings of crew on foreign fishing vessels because the revenue from fin sales often accrues directly to crew members. If that income is reduced, there could be less spending by crew members in port calls in American Samoa and Guam.

The proposed rule could indirectly affect U.S. retailers and consumers of shark fins, but the extent of impact cannot be determined with available data. It is possible that shark fins, which would no longer be available from domestic landings, would be available through air, ocean, or surface freight shipments. It is also possible that the price of shark fins would rise due to lower supply. The proposed rule would not directly affect the owners and employees of businesses that are engaged in domestic and international shipments of, and trade in, shark fins in containers or other such shipments, or the owners and employees of businesses that provide supplies and services to foreign fishing vessels that may (but do not necessarily) engage in shark finning and associated sales.

No reporting or recordkeeping requirements are proposed in this rule. Reporting requirements currently in place are sufficient for monitoring and enforcement of these regulations. However, these regulations may be amended if information or conditions demonstrate that additional reporting or recordkeeping requirements are necessary to achieve the purposes of the Act. This could include changes in the information required in logbook forms, a requirement that records be kept and submitted of the weight of shark fins and carcasses landed, or other information requirements. NMFS will work with the regional fishery management councils (councils) and interstate marine fisheries commissions to determine if changes are needed to ensure adequate records for monitoring the fisheries and enforcing the prohibitions. If any changes are needed in reporting and recordkeeping requirements, they may be made nationally or in separate regions.

Alternative Construction of the Statute

NMFS considered applying a broader interpretation of the Act, and this would be expected to have much greater impacts on foreign fishermen. One alternative would be to prohibit foreign fishing vessels from possessing shark fins harvested in waters seaward of the inner boundary of the U.S. EEZ without carcasses while in U.S. ports. This could result in a substantial reduction in the use of those ports by foreign longline vessels that have shark fins on board without corresponding carcasses. It is estimated that this activity generates between $40 to $60 million per year in sales by Hawaiian businesses. Another alternative would be to prohibit landings of shark fins harvested in waters seaward of the inner boundary of the U.S. EEZ without carcasses by non-fishing vessels, such as cargo vessels shipping fins to a U.S. port. Under this alternative, there would be greater impacts on shippers, retailers, and consumers. U.S. Customs Service data indicate that documented imports and exports of shark fins into and out of the U.S. were valued at $3 million and $5 million, respectively, in 1999. Under this alternative, these shipments would likely be eliminated and shark fins could only enter the U.S. via air or land freight.

Another alternative would be to extend the prohibition of possession of shark fins harvested in waters seaward of the inner boundary of the U.S. EEZ aboard any vessel under U.S. jurisdiction to all foreign fishing vessels whenever they are in the EEZ, even if not engaged in fishing. This could force some vessels fishing throughout the Pacific to adjust their navigation routes at high expense. It also would constitute an infringement on the right of freedom of navigation. This construction appears to go beyond the intent of the Act.

NMFS also considered not promulgating these regulations and using fishery management plans prepared by councils (and by the Secretary with respect to Atlantic Ocean, Gulf of Mexico, and Caribbean shark fishery management) under the Magnuson-Stevens Act to implement the Act. However, this would not meet the statutory requirements of the Act.

Finally, NMFS notes that it has received a petition from the Western Pacific Fisheries Coalition of Kailua, HI, to ban shark finning. The proposed rule would address the Coalition’s concern about the need for action to restrict or prohibit shark finning in waters seaward of the inner boundary of the U.S. EEZ. In light of this action, NMFS has concluded that it is not necessary to take any action in response to that petition.

Public Hearing

NMFS will hold a public hearing on this proposed rule in Silver Spring, MD, on July 11, 2001.

Classification

This proposed rule has been determined to be not significant for purposes of Executive Order 12866.

NMFS prepared an IRFA that describes the impact this proposed rule would have on small entities, if adopted. A copy of this analysis is available from NMFS (see ADDRESSES). A summary of the analysis follows.

The principal effect of this action would be to terminate finning and landings of fins by U.S. and foreign vessels in the Western Pacific, where persons and businesses will be more seriously affected by the elimination of their principal source of shark fins. The principal affected entities are: (a) U.S. longline and purse seine fishing vessel operators and crew, active in the western Pacific, and the businesses that buy and resell shark fins (without corresponding carcasses) from these vessels; (b) businesses that buy and export shark fins from crew of foreign longline vessels delivering those fins in western Pacific ports; and (c) businesses that sell goods and services to foreign vessel crew members who receive the revenue from the sale of shark fins in U.S. ports. The western Pacific is the only region where shark finning by U.S. interests has not previously been regulated under Federal or state law, and where delivery of fins by foreign vessels has been legal to date. It is not known how dominant a role shark fin trade plays in the economic activity of the affected firms; if trade in shark fins is all that they engage in, then these firms may be forced to cease activity and/or find alternate lines of trade. They may also seek ways to find more valuable uses of sharks (e.g., shark meat, cartilage, skins) such that more carcasses would be retained with the fins and greater values could be derived from the shark catches in the longline fishery. However, any such transition is likely to take some time and the firms would suffer losses until that time. It is estimated that the loss could be between $2-$3 million per year. It is acknowledged that there could be reductions in the availability of shark fins for soup and other products in the U.S. under the proposed rule. However, to the extent that shark fins could be shipped into the U.S. by alternate routes to substitute from direct landings, the supply impacts will be moderated.

As this proposed rule applies only to sharks harvested from waters seaward of the inner boundary of the U.S. EEZ, it does not conflict with any state laws governing fishing activities in state waters. Any state laws and regulations with respect to shark fins harvested from state waters would be unaffected by this rule as well as would be any state law or regulation which are more restrictive with respect to the landing of shark fins harvested from waters beyond the inner boundary of the U.S. EEZ. NMFS intends to work with those states that do not already prohibit the landing of shark fins without the corresponding shark carcasses to enact appropriate laws and/or to issue appropriate regulations so that the objectives of the Act are fully achieved.

NMFS initiated an informal consultation on May 31, 2001, with regard to the effects of this proposed rule on endangered and threatened species under NMFS’ jurisdiction. This consultation is continuing.

NMFS provided the U.S. Fish and Wildlife Service (FWS) with the draft EA and associated background information on the proposed rule and requested that FWS concur with NMFS’ determination that the proposed rule would not likely adversely affect any threatened or endangered species under FWS’ jurisdiction.

List of Subjects

50 CFR Part 600

Fisheries, Fishing.

50 CFR Part 635

Fisheries, Fishing, Fishing Vessels, Foreign Relations, Intergovernmental relations, Penalties, Reporting and recordkeeping requirements, Statistics, Treaties.

50 CFR Part 648

Fisheries, Fishing, Reporting and recordkeeping requirements.

Dated: June 22, 2001.
William T. Hogarth,
Acting Assistant Administrator for Fisheries, National Marine Marine Fisheries Service.

For the reasons set out in the preamble, 50 CFR parts 600, 635, and 648 are proposed to be amended as follows:

PART 600—MAGNUSON-STEVENS ACT PROVISIONS

1. The authority citation for part 600 continues to read as follows:

Authority: 16 U.S.C. 1801 et seq.

2. Subpart M is added to read as follows:

Subpart M—Shark Finning

Sec.
600.1019 Purpose and scope.
600.1020 Relation to other laws.
600.1021 Definitions.
600.1022 Prohibitions.
600.1023 Shark finning; possession at sea and landing of shark fins.

§ 600.1019 Purpose and scope.

The regulations in this subpart govern the removal of shark fins and discarding the carcass in waters seaward of the inner boundary of the U.S. EEZ (i.e., shark finning), and the possession and landing into U.S. ports of shark fins harvested in waters seaward of the inner boundary of the U.S. EEZ.

§ 600.1020 Relation to other laws.

(a) The relation of this subpart to other laws is set forth in §§ 600.514 and 600.705 and in paragraphs (b) and (c) of this section.

(b) Regulations pertaining to shark conservation and management for certain fisheries are also set forth in this subpart and in parts 635 (for Federal Atlantic Ocean, Gulf of Mexico, and Caribbean shark fisheries), 648 (for spiny dogfish fisheries), and 660 (for fisheries off West Coast states and in the western Pacific) of this chapter governing those fisheries.

(c) Nothing in this regulation supercedes more restrictive state regulations regarding shark finning.

(d) A person who owns or operates a vessel that has been issued an Atlantic Federal commercial shark limited access permit or a spiny dogfish permit is subject to the reporting and recordkeeping requirements found at parts 635 and 648 of this chapter, respectively.

§ 600.1021 Definitions.

(a) In addition to the definitions in the Magnuson-Stevens Act and § 600.10, the terms used in this subpart have the following meanings:

Land or landing means offloading fish from a fishing vessel, arriving in port to begin offloading fish, or causing fish to be offloaded from a fishing vessel, either to another vessel or to a shoreside facility.

Shark finning means taking a shark, removing a fin or fins (whether or not including the tail), and returning the remainder of the shark to the sea.

(b) If there is any difference between the definitions in this section and in § 600.10, the definitions in this section are the operative definitions for the purposes of the regulations in this subpart.

§ 600.1022 Prohibitions.

(a) In addition to the prohibitions in §§ 600.505 and 600.725, it is unlawful for any person or vessel subject to the jurisdiction of the United States to:

(1) Engage in shark finning, as provided in § 600.1023(a).

(2) Possess shark fins without the corresponding carcasses while on board a U.S. fishing vessel, as provided in § 600.1023 (b).

(3) Land shark fins without the corresponding carcasses, as provided in § 600.1023 (c).

(4) Fail to have all shark fins and carcasses from a U.S. or foreign fishing vessel landed at one time and weighed at the time of the landing, as provided in § 600.1023 (d).

(5) Possess, purchase, offer to sell, or sell shark fins taken, landed, or possessed in violation of this section, as provided in § 600.1023 (e).

(6) When requested, fail to allow an authorized officer or any employee of NMFS designated by a Regional Administrator access to and/or inspection or copying of any records pertaining to the landing, sale, purchase, or other disposition of shark fins and/or shark carcasses, as provided in § 600.1023 (f).

(7) Fail to have shark fins and carcasses recorded as specified in § 635.30 (c)(3) of this chapter.

(8) Fail to have all shark carcasses and fins landed and weighed at the same time if landed in an Atlantic coastal port, and to have all weights being recorded on the weighout slips specified in § 635.5 (a)(2) of this chapter.

(b) For purposes of this section, it is a rebuttable presumption that shark fins found on board, or landed by, a fishing vessel were taken, held, or landed in violation of this section if the total weight of the shark fins on board, or landed, exceeds 5 percent of the total dressed weight of shark carcasses on board or offloaded from the fishing vessel.

§ 600.1023 Shark finning; possession at sea and landing of shark fins.

(a) No person or vessel subject to U.S. jurisdiction shall engage in shark finning in waters seaward of the inner boundary of the U.S. EEZ.

(b) No person on a U.S. fishing vessel seaward of the inner boundary of the U.S. EEZ shall possess on board shark fins without the corresponding carcass(es), except that sharks may be dressed at sea.

(c) No person on board a U.S. or foreign fishing vessel shall land shark fins harvested in waters seaward of the inner boundary of the U.S. EEZ without corresponding shark carcasses.

(d) Except as provided in paragraphs (g) and (h) of this section, a person who operates a U.S. or foreign fishing vessel and who lands shark fins harvested in waters seaward of the inner boundary of the U.S. EEZ shall land all fins and corresponding carcasses from the vessel at the same point of landing and shall have all fins and carcasses weighed at that time.

(e) A person may not possess, purchase, offer to sell, or sell shark fins taken, landed, or possessed in violation of this section.

(f) Upon request, a person shall allow an authorized officer or any employee of NMFS designated by a Regional Administrator access to, and/or inspection or copying of, any records pertaining to the landing, sale, purchase, or other disposition of shark fins and/or shark carcasses.

(g) A person who owns or operates a vessel that has been issued a Federal Atlantic commercial shark limited access permit and who lands shark in an Atlantic coastal port must have all fins weighed in conjunction with the weighing of the carcasses at the vessel’s first point of landing. Such weights must be recorded on the weighout slips specified in § 635.5 (a)(2) of this chapter.

(h) A person who owns or operates a vessel that has not been issued a Federal Atlantic commercial shark limited access permit and who lands shark in or from the EEZ in an Atlantic coastal port must comply with regulations found at § 635.30 (c)(4) of this chapter.

(i) A person who owns or operates a vessel that has been issued a Federal Atlantic commercial shark limited access permit and who lands shark in an Atlantic coastal port may not sell fins whose wet weight exceeds 5 percent of the dressed weight of the carcasses.

(j) A dealer may not purchase fins from an owner or operator of a fishing vessel issued a Federal Atlantic commercial shark limited access permit who lands shark in an Atlantic coastal port whose wet weight exceeds 5 percent of the dressed weight of the carcasses.

PART 635—ATLANTIC HIGHLY MIGRATORY SPECIES

3. The authority citation for part 635 continues to read as follows:

Authority: 16 U.S.C. 1801 et seq.

4. In § 635.30, paragraphs (c)(1) through (c)(3) are revised to read as follows:

§ 635.30 Possession at sea and landing.

* * * * *

(c) Shark. (1) No person shall possess or offload wet shark fins harvested in waters seaward of the inner boundary of the U.S. EEZ in a quantity that exceeds 5 percent of the dressed weight of the shark carcasses. While shark fins are on board and when shark fins are being offloaded, persons issued a Federal Atlantic commercial shark limited access permit are subject to the regulations at part 600 (subpart M) of this chapter.

(2) A person who owns or operates a vessel that has been issued a Federal Atlantic commercial shark limited access permit may not fillet a shark at sea. A person may eviscerate and remove the head and fins, but must retain the fins with the dressed carcasses. While on board and when offloaded, wet shark fins may not exceed 5 percent of the dressed weight of the carcasses, in accordance with the regulations at part 600 (subpart M) of this chapter.

(3) A person who owns or operates a vessel that has been issued a Federal Atlantic commercial shark limited access permit and who lands shark in an Atlantic coastal port must have all fins and carcasses weighed and recorded on the weighout slips specified in § 635.5 (a)(2) and in accordance with regulations at part 600 (subpart M) of this chapter. The wet fins may not exceed 5 percent of the dressed weight of the carcasses.

* * * * *

5. In § 635.31, paragraphs (c)(3) and (c)(5) are revised to read as follows:

§ 635.31 Restrictions on sale and purchase.

(c) * * *

(3) Regulations governing the harvest, possession, landing, purchase, and sale of shark fins are found at part 600 (subpart M) of this chapter and § 635.30 (c).

* * * * *

(5) A dealer may not purchase from an owner or operator of a fishing vessel shark fins that were not harvested in accordance with the regulations found at part 600 (subpart M) of this chapter and § 635.30 (c).

* * * * *

6. In § 635.71, paragraphs (d)(6) and (d)(7) are revised to read as follows:

§ 635.71 Prohibitions.

(d) * * *

(6) Fail to maintain a shark in its proper form, as specified in § 635.30 (c)(4).

(7) Sell or purchase shark fins that are disproportionate to the weight of shark carcasses, as specified in § 635.30 (c)(2) and (c)(3) and § 600.1015 (b) of this chapter.

* * * * *

PART 648—FISHERIES OF THE NORTHEASTERN UNITED STATES

7. The authority citation for part 648 continues to read as follows:

Authority: 16 U.S.C. 1801 et seq.

§ 648.14 [Amended]

8. In § 648.14, paragraphs (aa) (4) through (6) are removed and reserved.

[FR Doc. 01-16191 Filed 6-25-01; 4:24 pm]

BILLING CODE 3510-22-S